DEPARTMENT OF THE INTERIOR

Minerals Management Service

Agency Information Collection Activities: Proposed Collection; Comment Request

AGENCY: Minerals Management Service (MMS), Interior.

ACTION: Notice of new information collection (1010-NEW).

SUMMARY: To comply with the Paperwork Reduction Act of 1995 (PRA), MMS is inviting comments on a collection of information that we will submit to the Office of Management and Budget (OMB) for review and approval. The information collection request (ICR) concerns the paperwork requirements in the regulations under 30 CFR part 250, subpart I, Platforms and Structures.

DATES: Submit written comments by October 18, 2004.

ADDRESSES: The ability to submit comments is now available through MMS's Public Connect on-line commenting system and is the preferred method for commenting. Interested parties may submit comments on-line at https://ocsconnect.mms.gov. From the Public Connect “Welcome” screen, you will be able to either search for Information Collection 1010-NEW or select it from the “Projects Open for Comment” menu.

Alternatively, interested parties may mail or hand-carry comments to the Department of the Interior, Minerals Management Service, Mail Stop 4024, 381 Elden Street, Herndon, Virginia 20170-4817; Attention: Rules Processing Team (RPT). Please reference “Information Collection 1010-NEW” in your comments and include your name and return address. Note: We are no longer accepting comments sent via e-mail.

FOR FURTHER INFORMATION CONTACT: Cheryl Blundon, Rules Processing Team at (703) 787-1600. You may also contact Cheryl Blundon to obtain a copy, at no cost, of the regulations and the Notice to Lessees (NTL's) that will request the subject collection of information.

SUPPLEMENTARY INFORMATION: Title: Notice to Lessees, Assessment of Existing OCS Platforms.

OMB Control Number: 1010-NEW.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Specifically, the OCS Lands Act (43 U.S.C. 1356) requires the issuance of “* * * regulations which require that any vessel, rig, platform, or other vehicle or structure * * * (2) which is used for activities pursuant to this subchapter, comply * * * with such minimum standards of design, construction, alteration, and repair as the Secretary * * * establishes * * *.” The OCS Lands Act (43 U.S.C. 1332(6)) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to MMS under which we issue regulations to ensure that operations in the OCS will meet statutory requirements; provide for safety and protection of the environment; and result in diligent exploration, development, and production of OCS leases. This information collection request addresses the regulations at 30 CFR part 250, subpart I, Platforms and Structures.

The MMS OCS Regions use the information submitted under subpart I to determine the structural integrity of all offshore structures and ensure that such integrity will be maintained throughout the useful life of these structures. We use the information to ascertain, on a case-by-case basis, that the platforms and structures are structurally sound and safe for their intended use to ensure safety of personnel and pollution prevention.

Currently, lessees are required to conduct these platform assessments and evaluations (API RP 2A-WSD, 21st edition, incorporated by reference April 21, 2003 (68 FR 193521), into 30 CFR 250.900(g)), but the regulations under Subpart I do not require lessees to submit the results to MMS. Therefore, with this information collection request, MMS is requesting the submission of the results of platform assessments and evaluations. Upon OMB approval of this collection, MMS will issue an NTL that requests lessees to submit their results of platform assessments and evaluations on a voluntary basis. MMS will use this information to verify that lessees have conducted assessments of existing platforms in an appropriate and timely manner to evaluate the risk of allowing existing platforms to finish their originally approved purposes; more specifically, we will use the information submitted through the NTL to:

• Verify that existing platforms comply with design criteria in accordance to API RP 2A-WSD (21st edition), “Recommended Practice for Planning, Designing, and Constructing Fixed Offshore Platforms—Working Stress Design,” and to evaluate the risk of allowing existing platforms to finish their originally approved purpose.

• Review reports that relate to framing patterns, soil data, exposure category, initiator data, assessment screening, design level analysis, and ultimate strength analysis.

• Review mitigation plans and platform applications for platforms that fail the ultimate strength analysis.

We will protect information from respondents considered proprietary under the Freedom of Information Act (5 U.S.C. 552) and its implementing regulations (43 CFR part 2) and under regulations at 30 CFR 250.196, “Data and information to be made available to the public.” No items of a sensitive nature are collected. Submissions are voluntary.

Frequency: Submission occurs periodically based on assessment.

Estimated Number and Description of Respondents: Approximately 130 Federal OCS oil and gas or sulphur lessees.

Estimated Reporting and Recordkeeping “Hour” Burden: We estimate that the reporting burden for this collection is 154,400 burden hours. The oil and gas industry and MMS recognize that some existing platforms may not comply with the design criteria required for new platforms. Design criteria were developed to provide a way to evaluate the risk of allowing existing platforms to finish their originally approved purpose. The following discussion details the individual components and the respective hour burden estimates of this ICR. In calculating the burdens, we assumed that respondents perform certain requirements in the normal course of their activities. We consider these to be usual and customary and took that into account in estimating the burden.

• MMS estimates that 3,400 platforms in the Gulf of Mexico (GOM) OCS will require submittal of framing patterns, soil data, exposure category, initiator data, and the assessment screening and report. Estimate 16 hours per submittal. Total burden = 54,400 hours.

• MMS estimates that 800 platforms will fail the assessment screening and require a design level analysis and report. Estimate 50 hours per submittal. Total burden = 40,000 hours.

• MMS estimates that 400 platforms will fail the design level analysis and require an ultimate strength analysis and report. Estimate 100 hours per submittal. Total burden = 40,000 hours.

• MMS estimates that 200 platforms will fail the ultimate strength analysis and require mitigation and a platform application. Estimate 100 hours per submittal. Total burden = 20,000 hours.

• Program = 154,400 hours.

Estimated Reporting and Recordkeeping “Non-Hour Cost” Burden: We have identified no “non-hour cost” burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz (202) 208-7744.

Dated: August 10, 2004.
E.P. Danenberger,
Chief, Engineering and Operations Division.

[FR Doc. 04-18767 Filed 8-16-04; 8:45 am]

BILLING CODE 4310-MR-P